DEPARTMENT OF TRANSPORTATION

Office of the Secretary

Application of Harris Aircraft Services, Inc. for Certificate Authority

AGENCY: Department of Transportation.

ACTION: Notice of Order to Show Cause (Order 2015-8-10) Docket DOT-OST-2014-0145.

SUMMARY: The Department of Transportation is directing all interested persons to show cause why it should not issue an order finding Harris Aircraft Services, Inc., fit, willing, and able, and awarding it a certificate of public convenience and necessity to conduct interstate scheduled air transportation of persons, property and mail.

DATES: Persons wishing to file objections should do so no later than August 27, 2015.

ADDRESSES: Objections and answers to objections should be filed in Docket DOT-OST-2014-0145 and addressed to Docket Operations, (M-30, Room W12-140), U.S. Department of Transportation, 1200 New Jersey Avenue SE., Washington, DC 20590, and should be served upon the parties listed in Attachment A to the order.

FOR FURTHER INFORMATION CONTACT: Barbara Snoden, Air Carrier Fitness Division (X-56, Room W86-471), U.S. Department of Transportation, 1200 New Jersey Avenue SE., Washington, DC 20590, (202) 366-4834.

Dated: August 7, 2015.
Susan L. Kurland,
Assistant Secretary for Aviation and International Affairs.

[FR Doc. 2015-19910 Filed 8-12-15; 8:45 am]

BILLING CODE 4910-9X-P